DEPARTMENT OF ENERGY

Federal Energy Regulatory Commission

[Docket No. ER15-192-000]

Arizona Public Service Company; Notice of Designation of Certain Commission Personnel as Non-Decisional

Commission staff member Stephen Pointer of the Office of Energy Market Regulation is assigned to assist in resolving issues in a dispute concerning two unexecuted firm transmission service agreements filed in the above-referenced docket.

As “non-decisional” staff, Mr. Pointer will not participate in an advisory capacity in the Commission's review of any future filings in the above-referenced docket, including offers of settlement or settlement agreements.

Different Commission “advisory staff” will be assigned to review and process subsequent filings that are made in the above-referenced docket, including any offer of settlement or settlement agreement. Non-decisional staff and advisory staff are prohibited from subsequent communications with one another concerning matters in the above-referenced docket.

Dated: January 9, 2015.
Kimberly D. Bose,
Secretary.

[FR Doc. 2015-00571 Filed 1-15-15; 8:45 am]

BILLING CODE 6717-01-P